DEPARTMENT OF THE INTERIOR

National Park Service

[NPS-WASO-NAGPRA-13324; PPWOCRADN0-PCU00RP14.R50000]

Notice of Inventory Completion: Missouri Department of Natural Resources, Jefferson City, MO

AGENCY: National Park Service, Interior.

ACTION: Notice.

SUMMARY: The Missouri Department of Natural Resources has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Missouri Department of Natural Resources. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Missouri Department of Natural Resources at the address in this notice by August 29, 2013.

ADDRESSES: Judith Deel, Missouri Department of Natural Resources, P.O. Box 179, Jefferson City, MO 65101, telephone (573) 751-7862.

SUPPLEMENTARY INFORMATION: Notice is here given in accordance with the Native American Graves Protection and Repatriation Act (NAGPRA), 25 U.S.C. 3003, of the completion of an inventory of human remains and associated funerary objects under the control of the Missouri Department of Natural Resources, Jefferson City, MO. The human remains were removed from Clarksville, in Pike County, MO.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Missouri Department of Natural Resources professional staff in consultation with representatives of the Sac & Fox Nation, Oklahoma; Sac & Fox of Missouri in Kansas and Nebraska; and the Sac & Fox Tribe of the Mississippi in Iowa.

History and Description of the Remains

Between 1962 and 1996, human remains representing, at minimum, 29 individuals were removed from the Clarksville Mound Group (site 23PI6) in Pike County, MO. The Clarksville Mound Group was originally recorded in 1952 and described as a group of six mounds. In 1962, the site was bulldozed in order to develop a sky-ride and tourist attraction, and five of the six mounds were destroyed. One accretion mound survived, under the sky-ride platform, and was incorporated into the commercial operation. Verbal and newspaper accounts report large numbers of human remains were removed or destroyed at the time, and some human remains were displayed as a part of the tourist attraction.

In 1995 and 1996, the City of Clarksville, the owner of the site, contacted the Missouri Department of Natural Resources, State Historic Preservation Office (SHPO) for assistance after terminating the lease to the tourist attraction. Human remains were eroding out of the damaged mound, and due to the severity of the erosion problem, the SHPO and the City of Clarksville decided to undertake excavations to remove the threatened burials. The excavations were expanded as more burials were discovered. During the excavation, human remains representing, at minimum, 22 individuals were removed from the site. No known individuals were identified. The two associated funerary objects are one lot of ancalusa shell beads and one Scallorn point. In 2002, additional human remains representing, at minimum, four individuals were transferred to the SHPO by a local collector who had been on the site in 1962. In 2006, additional human remains representing, at minimum, three individuals were transferred to the SHPO by the University of Missouri-Columbia.

The area of Pike County, MO, was ceded by the Sauk and Fox in a series of treaties with the United States between 1804 and 1816. The Sauk and Fox are represented by the present day Sac & Fox Nation, Oklahoma; Sac & Fox of Missouri in Kansas and Nebraska; and the Sac & Fox Tribe of the Mississippi in Iowa. Cultural affiliation was determined based on tribal history and the historical association of these tribes to the counties bordering the Mississippi River, including Pike County, MO.

Determinations Made by the Missouri Department of Natural Resources

Officials of the Missouri Department of Natural Resources have determined that:

• Pursuant to 25 U.S.C. 3001(9), the human remains described in this notice represent the physical remains of 29 individuals of Native American ancestry.

• Pursuant to 25 U.S.C. 3001(3)(A), the two objects described in this notice are reasonably believed to have been placed with or near individual human remains at the time of death or later as part of the death rite or ceremony.

• Pursuant to 25 U.S.C. 3001(2), there is a relationship of shared group identity that can be reasonably traced between the Native American human remains and the Sac & Fox Nation, Oklahoma; Sac & Fox of Missouri in Kansas and Nebraska; and the Sac & Fox Tribe of the Mississippi in Iowa.

Additional Requestors and Disposition

Lineal descendants or representatives of any Indian tribe or Native Hawaiian organization not identified in this notice that wish to request transfer of control of these human remains and associated funerary objects should submit a written request with information in support of the request to Judith Deel, Missouri Department of Natural Resources, P.O. Box 179, Jefferson City, MO 65101, telephone (573) 751-7862, by August 29, 2013. After that date, if no additional requestors have come forward, transfer of control of the human remains and associated funerary objects the Sac & Fox Nation, Oklahoma; Sac & Fox of Missouri in Kansas and Nebraska; and the Sac & Fox Tribe of the Mississippi in Iowa may proceed.

The Missouri Department of Natural Resources is responsible for notifying the Sac & Fox Nation, Oklahoma; Sac & Fox of Missouri in Kansas and Nebraska; and the Sac & Fox Tribe of the Mississippi in Iowa that this notice has been published.

Dated: June 17, 2013.
Sherry Hutt,
Manager, National NAGPRA Program.

[FR Doc. 2013-18317 Filed 7-29-13; 8:45 am]

BILLING CODE 4312-50-P